DEPARTMENT OF ENERGY

Federal Energy Regulatory Commission

[Docket No. IC03-587-000]

Proposed Information Collection and Request for Comments; Errata Notice

April 18, 2003.

On April 4, 2003, the Commission issued a Notice of Proposed Information Collection and Request for Comments in the above-docketed proceeding (68 FR 17789, published April 11, 2003). In the document, the Commission requested comments on proposed information and its revised Form 587. The attachments “Instructions for Completing Forms FERC 587” and “FERC Form 587” which follow, were not included in the issued document.

Magalie R. Salas,
Secretary.

Form Approved

OMB No. 1902-0143

(Expires / / )

Instructions for Completing Forms FERC-587

Form FERC-587 is issued to identify those project boundary maps associated with federal lands. There are two versions of the form to account for the two different ways land is surveyed in the United States, the Public Land States and the Non-Public Land States. The Public Land States version is used for projects located on the western side of the United States, and is based on the federal township and range system. The Non-Public Land States version is to be used for most of the projects located on the eastern side of United States, including Texas, and is based just on county information.

To complete either form you must:

1. Identify the boundary maps in the license, preliminary permit, or in the application for license, amendment of license, or preliminary permit.

2. Provide the project number assigned by FERC. Type or print legibly when entering information on the form. Include your signature, and date completing the form.

3. Microfilm copies of the project boundary maps must be submitted with the land description forms as directed by FERC. Each map must be reproduced on silver or gelatin 35 mm microfilm mounted on type D (3¼″ x 7⅜″) aperture cards. The project number followed by a hyphen and sheet number or letter must be typed on the front of each card in the upper right corner.

4. Mail a copy of the completed land description forms and aperture cards to: Secretary, Routing Code PJ-12, Federal Energy Regulatory Commission, 888 First Street NE., Washington, DC 20426.

Another copy of the form FERC-587 must be filed with the Bureau of Land Management state office(s) involved using the format below. Go to the following Internet address to get mailing address for a particular State Office; (http://www.blm.gov/nhp/directory/index.htm).

State Director, Bureau of Land Management, City, State Zip, ATTN: FERC Withdrawal Recordation.

5. Keep the land description forms and project boundary drawings up-to-date. If the project boundary changes, revised land description forms and drawings must be provided to the Commission immediately. The revised land description forms must be fully completed so as to supersede (not supplement) earlier forms. Mail updates in accordance with instruction 4.

If there are any questions, please contact the FERC at (202) 502-8836.

6. Where to send comments on the Public Reporting Burden.

The public reporting burden for this collection of information is estimated to average 1 hour per response, including the time for reviewing the instructions, searching existing data sources, gathering and maintaining the data needed, and completing and reviewing the collection of information. Send comments regarding this burden estimate or any aspect of this collection of information, including suggestions for reducing this burden, to the Federal Energy Regulatory Commission, 888 First Street, Washington, DC 20426 (Attention: Mr. Michael Miller, ED-30); and to the Office of Information and Regulatory Affairs, Office of Management and Budget, Washington, DC 20503 (Attention: Desk Officer for the Federal Energy Regulatory Commission). This is a mandatory information collection requirement.)

To complete the Public Land States (Rectangular Survey System Lands) you need to:

1. Identify the state in which the project is located. If the project lies within multiple states, then provide the state for the township which the form refers.

2. Provide the FERC Project Number assigned by FERC (i.e., P-96). Only one project number should appear on the form.

3. Identify the Township, Range and Meridian where the project lands and federal lands overlap. Each township is depicted in a map by an identifying number according to where it falls (i.e., T9SR22E). The east/west numbers are identified by the term “Range” and the north/south numbers are identified by the term “Township”. The completed land description form will identify the sections of the township affected by the project (both federal and non-federal lands) and provide references to the maps that show the project boundary in those sections. Complete a separate form for each township identified, regardless of the ownership status of the lands.

4. Identify whether you are completing the form for a licensed project or a preliminary permit. Identify whether the license is pending or issued. Provide an expiration date in case of a preliminary permit.

5. Using the township grid provided on the form, identify the section (s), in which the federal land is located on the map. Every Section is numbered, from 1 to 36, depending upon its position within the township. Specify the exhibit sheet (drawing) number, or letter within the appropriate township section. If the FERC sheet numbers have been assigned, they must be used on the land description forms. In those cases where FERC has not assigned sheet numbers, assign letter designations A, B, C, etc., in lieu of FERC sheet numbers. Permittees and permit applicants must assign letter designations since FERC does not assign sheet numbers for permits. The sheet numbers or letters are to be entered in the appropriate place on the land description forms to provide references to the maps. (i.e., if sheets 74 and 75 show the project boundary in sections 13 and 24 of a township, the numbers 74 and 75 would be inserted in the box on the land description form representing sections 13 and 24).

6. Provide the name and telephone number of the person completing the form, and the date the form is submitted.

FERC Form No. 587

OMB control No. 1902-0143

Expires ( / / )

Land Description

Public Land States, (Rectangular Survey System Lands)

1. State

2. FERC Project No.

3. Township ____ Range ____ Meridian ____

4. Check one:

___ License

___ Preliminary Permit

Check one:

___ Pending

___ Issued

If preliminary permit is issued, give expiration date: ____

5. Exhibit Sheet Numbers or Letters
Section 6 | 5 | 4 | 3 | 2 | 1
7 | 8 | 9 | 10 | 11 | 12
18 | 17 | 16 | 15 | 14 | 13
19 | 20 | 21 | 22 | 23 | 24
30 | 29 | 28 | 27 | 26 | 25
31 | 32 | 33 | 34 | 35 | 36

6. Contact's name

Telephone no. ( )

Date submitted

This information is necessary for the Federal Energy Regulatory Commission to discharge its responsibilities under Section 24 of the Federal Power Act.

To complete the Non-Public Land States (Non-Rectangular Survey System Lands in Public Land States) form you need to:

1. Identify the state in which the project is located. If the project lies within multiple states, then provide the state for the counties which the form refers.

2. Provide the FERC Project Number assigned by FERC (i.e., P-96). Only one project number should appear on the form

3. Identify the Federal reservation that is located within the project boundary as shown on the maps.

4. Identify the Federal land holding agency responsible for the federal land within the project boundary as shown on the maps

5. Identify the county or counties the Federal land lies in.

6. Identify whether you are completing the form for a licensed project or a preliminary permit. Identify whether the license is pending or issued. Provide an expiration date in case of a preliminary permit.

7. Complete a land description form for each Federal tract with lands inside project boundaries. If more than one land description form is required to list the Federal tracts, page numbers must be shown in the upper right corner of the form, e.g., page 1 of 2. Do not list more than one project or state on each form.

8. Provide sheet numbers or letters that should be entered on the lines provided under “Exhibit Sheet Numbers) or Letter(s)” opposite to the corresponding Federal tract identification designated by the Federal land holding agency. Specify the exhibit sheet (drawing) number within the appropriate township section. If the FERC sheet numbers have been assigned, they must be used on the land description forms. In those cases where FERC has not assigned sheet numbers, assign letter designations A, B, C, etc., in lieu of FERC sheet numbers. Permittees and permit applicants must assign letter designations since FERC does not assign sheet numbers for permits.

9. Provide the name, telephone number of the person completing the form, and the date the form is submitted.

FERC Form No. 587

OMB control No. 1902-0143

Expires ( / / )

Land Description

Non-Public Land States (and Non-Rectangular Survey System Lands in Public Land States)

1. State

2. FERC Project No.

3. Federal Reservation:

4. Federal Land Holding Agency:

5. Counties:

6. Check one:

___ License

___ Preliminary Permit

Check one:

___ Pending

___ Issued

If preliminary permit is issued, give expiration date:

7. Federal Tract(s) Identification

8. Exhibit Sheet Number(s) or Letter(s)

9. Contact's name

Telephone no. ( )

Date submitted

This information is necessary for the Federal Energy Regulatory Commission to discharge its responsibilities under Section 24 of the Federal Power Act.

[FR Doc. 03-10206 Filed 4-23-03; 8:45 am]

BILLING CODE 6717-01-P